DEPARTMENT OF JUSTICE

[OMB Number 1117-0001]

Agency Information Collection Activities; Proposed eCollection, eComments Requested; Revision of a Previously Approved Collection; Report of Theft or Loss of Controlled Substance and Report of Loss or Disappearance of Listed Chemicals

AGENCY: Drug Enforcement Administration, Department of Justice.

ACTION: 60-Day notice.

SUMMARY: The Drug Enforcement Administration (DEA), Department of Justice (DOJ), will be submitting the following information collection request to the Office of Management and Budget (OMB) for review and approval in accordance with the Paperwork Reduction Act of 1995.

DATES: Comments are encouraged and will be accepted for 60 days until November 20, 2023.

FOR FURTHER INFORMATION CONTACT: If you have additional comments especially on the estimated public burden or associated response time, suggestions, or need a copy of the proposed information collection instrument with instructions or additional information, please contact Scott A. Brinks, Regulatory Drafting and Policy Support Section, Drug Enforcement Administration; Mailing Address: 8701 Morrissette Drive, Springfield, Virginia 22152; Telephone: (571) 362-3261, Email: scott.a.brinks@dea.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: In accordance with current 21 CFR 1301.74, a DEA registrant must notify the Field Division Office of the Administration in writing, of any theft or significant loss of any controlled substance within one business day of discovery of the theft or loss, and must complete and send to the DEA a DEA Form 106 upon determination of a theft or significant loss. The DEA Form 106 is designed to provide a uniform method of reporting and recording thefts and losses of controlled substances as required by 21 U.S.C. 827, 21 CFR 1301.74(c) and 1301.76(b). The form is entitled “Report of Theft or Loss of Controlled Substances” and it is used by the DEA to help determine the quantities and types of controlled substances that are stolen or lost. It may also serve as a record of the theft or loss for the registrant. DEA is modifying this collection to move DEA Form 107 from 1117-0024 to this collection, as DEA Form 107 is more aligned with DEA Form 106. DEA Form 107 is used by regulated persons involved in reporting unusual or excessive loss or disappearance of a listed chemical. Each regulated person must report to the Special Agent in Charge of the DEA Diversional Office for the area in which the regulated person making the report is located any unusual or excessive loss or disappearance of a listed chemical under the control of the regulated person.

Overview of This Information Collection

1. Type of Information Collection: Revision of a currently approved collection.

2. Title of the Form/Collection: Report of Theft or Loss of Controlled Substance and Reports of Loss or Disappearance of Listed Chemicals.

3. The agency form number, if any, and the applicable component of the Department sponsoring the collection: DEA Form 106 and DEA Form 107. The applicable component within the Department of Justice is the Drug Enforcement Administration, Diversion Control Division.

4. Affected public who will be asked or required to respond, as well as the obligation to respond: Affected public (Primary): Private Sector—business or other for-profit. Other: Private Sector—businesses not-for-profit institutions; Federal, State, local, and tribal governments.

5. An estimate of the total number of respondents and the amount of time estimated for an average respondent to respond: DEA estimates that 10,547 persons respond as needed to this collection. Responses take 20 minutes for DEA Form 106 and for DEA Form 107.

6. An estimate of the total annual burden (in hours) associated with the collection: DEA estimates that this collection takes 10,881 annual burden hours.

7. An estimate of the total annual cost burden associated with the collection, if applicable: $0.

Total Burden Hours
Activity | Number of respondents | Frequency | Total annual responses | Time per response (min.) | Total annual burden (hours)
DEA Form 106 | 10,377 | 3.115737 | 32,332 | 20 | 10,777
DEA Form 107 (electronic) | 170 | 1.835294 | 312 | 20 | 104
Unduplicated Totals | 10,547 | N/A | 32,644 |  | 10,881

If additional information is required contact: Darwin Arceo, Department Clearance Officer, United States Department of Justice, Justice Management Division, Policy and Planning Staff, Two Constitution Square, 145 N Street NE, 4W-218, Washington, DC.

Dated: September 14, 2023.
Darwin Arceo,
Department Clearance Officer for PRA, U.S. Department of Justice.

[FR Doc. 2023-20340 Filed 9-19-23; 8:45 am]

BILLING CODE 4410-09-P